DEPARTMENT OF THE INTERIOR

Bureau of Safety and Environmental Enforcement

30 CFR Part 250

[Docket ID: BSEE-2012-0003]

RIN 1014-AA01

Production Measurement Documents Incorporated by Reference; Correction

AGENCY: Bureau of Safety and Environmental Enforcement (BSEE), Interior.

ACTION: Correcting amendment.

SUMMARY: This document corrects an amendment contained in a final rule published in the Federal Register on March 29, 2012, and involves only that portion of the rule relating to the authority citation.

DATES: This correction is effective on May 30, 2012.

FOR FURTHER INFORMATION CONTACT: Wilbon Rhome, Regulations and Standards Branch, at Wilbon.Rhome@BSEE.gov, 703-787-1587.

SUPPLEMENTARY INFORMATION: BSEE is correcting a portion of its final rule published March 29, 2012 (77 FR 18916), that omitted part of the authority citation for 30 CFR part 250. The correction involves adding, 30 U.S.C. 1751, to the existing authorities cited.

List of Subjects in 30 CFR Part 250

Continental shelf, Incorporation by reference, Public lands—mineral resources, Reporting and recordkeeping requirements.

Dated: May 17, 2012.
Ned Farquhar,
Deputy Assistant Secretary—Land and Minerals Management.

Accordingly, the Bureau of Safety and Environmental Enforcement is making the correcting amendment to 30 CFR part 250 as follows:

PART 250—OIL AND GAS AND SULPHUR OPERATIONS IN THE OUTER CONTINENTAL SHELF

1. The authority citation for part 250 is revised to read as follows:

Authority: 30 U.S.C. 1751, 31 U.S.C. 9701, 43 U.S.C. 1334.

[FR Doc. 2012-13086 Filed 5-29-12; 8:45 am]

BILLING CODE 4310-VH-P